DEPARTMENT OF DEFENSE

Department of the Navy

Subcommittee Meeting of the Board of Advisors to the President of the Naval War College Subcommittee

AGENCY: Department of the Navy, DoD.

ACTION: Notice of Open Meeting.

SUMMARY: Pursuant to the provisions of The Federal Advisory Committee Act (Pub. L. 92-463, as amended), notice is hereby given that the following meeting of the aforementioned Subcommittee will be held. (Parent Committee is: Board of Advisors (BOA) to the Presidents of the Naval Postgraduate School and the Naval War College (NWC)). This meeting will be open to the public.

DATES: The meeting will be held on Thursday, April 12, 2012, from 2 p.m. to 4 p.m. and on Friday, April 13, 2012, from 9 a.m. to 3 p.m. Eastern Time Zone.

ADDRESSES: The meeting will be held at the U.S. Naval War College, 686 Cushing Road, Newport, RI.

FOR FURTHER INFORMATION CONTACT: Mr. Richard R. Menard, Naval War College, Newport, RI 02841-1207, telephone number 401-841-7004.

SUPPLEMENTARY INFORMATION: The purpose of the Board is to advise and assist the President, NWC in educational and support areas, providing independent advice and recommendations on items such as, but not limited to, organizational management, curricula, methods of instruction, facilities, and other matters of interest.

The agenda is as follows:

(1) April 12, 2012: Discussion of recently issued defense guidance and its implication for the military and Joint Professional Military Education; the College's role in updating of `A Cooperative Strategy for the 21st Century.'

(2) April 13, 2012: General deliberations and inquiry into campus facilities and proposed Learning Center concept; mission priorities in an era of constrained resources; and faculty and student diversity.

Individuals without a DoD Government Common Access Card require an escort at the meeting location. For access, information, or to send written comments regarding the NWC BOA Subcommittee contact Mr. Richard R. Menard, Alternate Designated Federal Official, Naval War College, 686 Cushing Rd, Newport, RI 02841-1207 or by fax 401-841-1297 by April 1, 2012.

Dated: February 28, 2012.
J.M. Beal,
Lieutenant Commander, Judge Advocate General's Corps, U.S. Navy, Federal Register Liaison Officer.

[FR Doc. 2012-5348 Filed 3-5-12; 8:45 am]

BILLING CODE 3810-FF-P